DEPARTMENT OF THE INTERIOR

Fish and Wildlife Service

[FWS-R9-IA-2012-N070; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 16, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Applicant: Wild Wilderness Drive-Through Safari, Gentry, AR; PRT-28258A

The applicant requests amendment of their captive-bred wildlife registration under 50 CFR 17.21(g) to add red ruffed lemur (Varecia rubra), Grevy's zebra (Equus grevyi), Hartmann's mountain zebra (Equus hartmannae), scimitar-horned oryx (Oryx dammah), addax (Addax nasomaculatus), and Dama gazelle (Nanger dama) to enhance their propagation or survival. This notification covers activities to be conducted by the applicant over a 5-year period.

Applicant: Riverbanks Zoological Park, Columbia, SC; PRT-667921

The applicant requests renewal of their captive-bred wildlife registration under 50 CFR 17.21(g) for the following families, genus, and species, to enhance their propagation or survival. This notification covers activities to be conducted by the applicant over a 5-year period.

Families

Bovidae

Callitricidae

Canidae

Cebidae

Cercopithecidae

Equidae

Felidae

Hominidae

Hylobatidae

Lemuridae

Macropodidae

Pteropodidae

Rhinocerotidae

Suidae

Tapiridae

Ursidae

Bucerotidae

Columbidae

Cracidae

Gruidae

Psittacidae (does not include Thick-billed parrots)

Rallidae

Rheidae

Spheniscidae

Sturnidae (does not include Aplonis pelzelni)

Threskiornithidae

Zosteropidae

Alligatoridae (does not include American alligator)

Boidae (does not include Mona boa or Puerto Rican boa)

Crocodylidae (does not include American crocodile)

Emydidae

Gekkonidae

Iguanidae

Pelomedusidae

Testudinidae

Trionychidae

Varanidae

Viperidae (includes Crotalus unicolor but not Crotalus willardi)

Cryptobranchidae

Genus

Tragopan

Species

Asian elephant (Elephas maximus)

Applicant: Oakland Zoo, Oakland, CA; PRT-199071

The applicant requests renewal of their captive-bred wildlife registration under 50 CFR 17.21(g) for the following families, genus, and species, to enhance their propagation or survival. This notification covers activities to be conducted by the applicant over a 5-year period.

Families

Hylobatidae

Species

Dama gazelle (Nanger dama)

Ring-tailed lemur (Lemur catta)

Panamanian golden frog (Atelopus zeteki)

Applicant: Santa Ana Zoo, Santa Ana, CA; PRT-691733

The applicant requests renewal of their captive-bred wildlife registration under 50 CFR 17.21(g) for the following families, genus, and species, to enhance their propagation or survival. This notification covers activities to be conducted by the applicant over a 5-year period.

Families

Cebidae

Lemuridae

Species

Lar gibbon (Hylobates lar)

Maned wolf (Chrysocyon brachyurus)

South American tapir (Tapirus terrestris)

Pudu (Pudu puda)

Applicant: Zoo of Acadiana, LLC, Broussard, LA; PRT-209126

The applicant requests amendment of their captive-bred wildlife registration under 50 CFR 17.21(g) to add red ruffed lemur (Varecia rubra), Siamang (Symphalangus syndactylus), South American tapir (Tapirus terrestris), barasingha (Rucervus duvaucelii), slender-horned gazelle (Gazella leptoceros), banteng (Bos javanicus), anoa (Bubalus depressicornis), scimitar-horned oryx (Oryx dammah), addax (Addax nasomaculatus), Dama gazelle (Nanger dama), Salmon-crested cockatoo (Cacatua moluccensis) and Nile crocodile (Crocodylus niloticus), to enhance their propagation or survival. This notification covers activities to be conducted by the applicant over a 5-year period.

Applicant: 5F Ranch, Zephyr, TX; PRT-66071A

The applicant requests a permit authorizing interstate and foreign commerce, export, and cull of excess scimitar-horned oryx (Oryx dammah), from the captive herd maintained at their facility, for the purpose of enhancement of the survival of the species. This notification covers activities to be conducted by the applicant over a 5-year period.

Applicant: Madera Bonita Ranch, Old Glory, TX; PRT-65707A

The applicant requests a captive-bred wildlife registration under 50 CFR 17.21(g) for the scimitar-horned oryx (Oryx dammah), to enhance their propagation or survival. This notification covers activities to be conducted by the applicant over a 5-year period.

Applicant: Madera Bonita Ranch, Old Glory, TX; PRT-67100A

The applicant requests a permit authorizing interstate and foreign commerce, export, and cull of excess scimitar-horned oryx (Oryx dammah), from the captive herd maintained at their facility, for the purpose of enhancement of the survival of the species. This notification covers activities to be conducted by the applicant over a 5-year period.

Applicant: Y.O. Ranch, Mountain Home, TX; PRT-66048A

The applicant requests a captive-bred wildlife registration under 50 CFR 17.21(g) for the Eld's deer (Rucervus eldii), barasingha (Rucervus duvaucelii), Arabian oryx (Oryx leucoryx), scimitar-horned oryx (Oryx dammah), addax (Addax nasomaculatus), and dama gazelle (Nanger dama), to enhance their propagation or survival. This notification covers activities to be conducted by the applicant over a 5-year period.

Applicant: Y.O. Ranch, Mountain Home, TX; PRT-66049A

The applicant requests a permit authorizing interstate and foreign commerce, export, and cull of excess barasingha (Rucervus duvaucelii), scimitar-horned oryx (Oryx dammah), addax (Addax nasomaculatus), and dama gazelle (Nanger dama), from the captive herd maintained at their facility, for the purpose of enhancement of the survival of the species. This notification covers activities to be conducted by the applicant over a 5-year period.

Applicant: Wildwood Wildlife Park, Minocqua, WI; PRT-66306A

The applicant requests a captive-bred wildlife registration under 50 CFR 17.21(g) for the ring-tailed lemur (Lemur catta), brown lemur (Eulemur fulvus), cotton-top tamarin (Saginus oedipus), leopard (Panthera pardus), salmon-crested cockatoo (Cacatua moluccensis), Galapagos tortoise (Chelonoidis nigra), radiated tortoise (Astrochelys radiata), to enhance their propagation or survival. This notification covers activities to be conducted by the applicant over a 5-year period.

Applicant: Prater-Pirkle Land Co., Blanket, TX; PRT-66309A

The applicant requests a captive-bred wildlife registration under 50 CFR 17.21(g) for the scimitar-horned oryx (Oryx dammah), to enhance their propagation or survival. This notification covers activities to be conducted by the applicant over a 5-year period.

Applicant: Prater-Pirkle Land Co., Blanket, TX; PRT-66626A

The applicant requests a permit authorizing interstate and foreign commerce, export, and cull of excess scimitar-horned oryx (Oryx dammah), from the captive herd maintained at their facility, for the purpose of enhancement of the survival of the species. This notification covers activities to be conducted by the applicant over a 5-year period.

Applicant: Cotton Mesa Trophy Whitetail, Wortham, TX; PRT-66631A

The applicant requests a captive-bred wildlife registration under 50 CFR 17.21(g) for the scimitar-horned oryx (Oryx dammah), addax (Addax nasomaculatus), and dama gazelle (Nanger dama), to enhance their propagation or survival. This notification covers activities to be conducted by the applicant over a 5-year period.

Applicant: Cotton Mesa Trophy Whitetail, Wortham, TX; PRT-66632A

The applicant requests a permit authorizing interstate and foreign commerce, export, and cull of excess scimitar-horned oryx (Oryx dammah) and addax (Addax nasomaculatus), from the captive herds maintained at their facility, for the purpose of enhancement of the survival of the species. This notification covers activities to be conducted by the applicant over a 5-year period.

Applicant: Mayfield Ranch, Christoval, TX; PRT-67061A

The applicant requests a captive-bred wildlife registration under 50 CFR 17.21(g) for the Arabian oryx (Oryx leucoryx), scimitar-horned oryx (Oryx dammah), addax (Addax nasomaculatus), and dama gazelle (Nanger dama), to enhance their propagation or survival. This notification covers activities to be conducted by the applicant over a 5-year period.

Applicant: Mayfield Ranch, Christoval, TX; PRT-67162A

The applicant requests a permit authorizing interstate and foreign commerce, export, and cull of excess scimitar-horned oryx (Oryx dammah) and addax (Addax nasomaculatus), from the captive herds maintained at their facility, for the purpose of enhancement of the survival of the species. This notification covers activities to be conducted by the applicant over a 5-year period.

Applicant: Harkey Ranch, Eldorado, TX; PRT-67060A

The applicant requests a captive-bred wildlife registration under 50 CFR 17.21(g) for the Grevy's zebra (Equus grevyi), Hartmann's mountain zebra (Equus hartmannae), Eld's deer (Rucervus eldii), barasingha (Rucervus duvaucelii), bontebok (Damaliscus pygargus pygargus), Arabian oryx (Oryx leucoryx), scimitar-horned oryx (Oryx dammah), addax (Addax nasomaculatus), slender-horned gazelle (Gazella leptoceros), and Dama gazelle (Nanger dama), to enhance their propagation or survival. This notification covers activities to be conducted by the applicant over a 5-year period.

Applicant: Jimmy Asaff; Sarita, TX; PRT-67291A

The applicant requests a captive-bred wildlife registration under 50 CFR 17.21(g) for the scimitar-horned oryx (Oryx dammah), to enhance their propagation or survival. This notification covers activities to be conducted by the applicant over a 5-year period.

Applicant: Applicant: Jimmy Asaff; Sarita, TX; PRT-67292A

The applicant requests a permit authorizing interstate and foreign commerce, export, and cull of excess scimitar-horned oryx (Oryx dammah), from the captive herd maintained at their facility, for the purpose of enhancement of the survival of the species. This notification covers activities to be conducted by the applicant over a 5-year period.

Applicant: Smithsonian National Zoological Park, Washington, DC; PRT-007870

The applicant request reissuance of their permit for scientific research with captive-born giant pandas (Ailuropoda melanoleuca) currently held under loan agreement with the Government of China and under provisions of the USFWS Giant Panda Policy. The proposed research will cover all aspects of behavior, reproductive physiology, genetics, nutrition, and animal health and is a continuation of activities currently in progress. This notification covers activities conducted by the applicant over a 5-year period.

Applicant: Britt Rice, College Station, TX; PRT-66229A

The applicant requests a captive-bred wildlife registration under 50 CFR 17.21(g) for the addax (Addax nasomaculatus), to enhance their propagation or survival. This notification covers activities to be conducted by the applicant over a 5-year period.

Applicant: Kristi Crosby, Camp Verde, TX; 65098A

The applicant requests a captive-bred wildlife registration under 50 CFR 17.21(g) for the scimitar-horned oryx (Oryx dammah), to enhance their propagation or survival. This notification covers activities to be conducted by the applicant over a 5-year period.

Applicant: Christopher Karcher, San Antonio, TX; PRT-65362A

The applicant requests a captive-bred wildlife registration under 50 CFR 17.21(g) for the scimitar-horned oryx (Oryx dammah), to enhance their propagation or survival. This notification covers activities to be conducted by the applicant over a 5-year period.

Applicant: Forest Land LLC, Sanderson, TX; PRT-66630A

The applicant requests a captive-bred wildlife registration under 50 CFR 17.21(g) for the addax (Addax nasomaculatus), and dama gazelle (Nanger dama), to enhance their propagation or survival. This notification covers activities to be conducted by the applicant over a 5-year period.

Applicant: Forest Land LLC, Sanderson, TX; PRT-66629A

The applicant requests a permit authorizing interstate and foreign commerce, export, and cull of excess addax (Addax nasomaculatus), and dama gazelle (Nanger dama), from the captive herd maintained at their facility, for the purpose of enhancement of the survival of the species. This notification covers activities to be conducted by the applicant over a 5-year period.

Applicant: C.H. Guenther & Son Inc., San Antonio, TX; PRT-65755A

The applicant requests a captive-bred wildlife registration under 50 CFR 17.21(g) for the scimitar-horned oryx (Oryx dammah), to enhance their propagation or survival. This notification covers activities to be conducted by the applicant over a 5-year period.

Applicant: C.H. Guenther & Son Inc., San Antonio, TX; PRT-67110A

The applicant requests a permit authorizing interstate and foreign commerce, export, and cull of excess scimitar-horned oryx (Oryx dammah), from the captive herd maintained at their facility, for the purpose of enhancement of the survival of the species. This notification covers activities to be conducted by the applicant over a 5-year period.

Applicant: Lucky Penny Ranch, Killeen, TX; PRT-67448A

The applicant requests a captive-bred wildlife registration under 50 CFR 17.21(g) for the scimitar-horned oryx (Oryx dammah), to enhance their propagation or survival. This notification covers activities to be conducted by the applicant over a 5-year period.

Applicant: Lucky Penny Ranch, Killeen, TX; PRT-67449A

The applicant requests a permit authorizing interstate and foreign commerce, export, and cull of excess scimitar-horned oryx (Oryx dammah), from the captive herd maintained at their facility, for the purpose of enhancement of the survival of the species. This notification covers activities to be conducted by the applicant over a 5-year period.

Applicant: Safeguard Investments LTD, Sandia, TX; PRT-67421A

The applicant requests a captive-bred wildlife registration under 50 CFR 17.21(g) for the barasingha (Rucervus duvaucelii), scimitar-horned oryx (Oryx dammah), and addax (Addax nasomaculatus), to enhance their propagation or survival. This notification covers activities to be conducted by the applicant over a 5-year period.

Applicant: Circle S Ranch, LLC, Mountain Home, TX; PRT-67458A

The applicant requests a captive-bred wildlife registration under 50 CFR 17.21(g) for the scimitar-horned oryx (Oryx dammah), to enhance their propagation or survival. This notification covers activities to be conducted by the applicant over a 5-year period.

Applicant: Circle S Ranch, LLC, Mountain Home, TX; PRT-67459A

The applicant requests a permit authorizing interstate and foreign commerce, export, and cull of excess scimitar-horned oryx (Oryx dammah), from the captive herd maintained at their facility, for the purpose of enhancement of the survival of the species. This notification covers activities to be conducted by the applicant over a 5-year period.

Applicant: Petty Group, LLP, San Antonio, TX; PRT-65763A

The applicant requests a captive-bred wildlife registration under 50 CFR 17.21(g) for the scimitar-horned oryx (Oryx dammah), to enhance their propagation or survival. This notification covers activities to be conducted by the applicant over a 5-year period.

Applicant: Petty Group, LLP, San Antonio, TX; PRT-65764A

The applicant requests a permit authorizing interstate and foreign commerce, export, and cull of excess scimitar-horned oryx (Oryx dammah), from the captive herd maintained at their facility, for the purpose of enhancement of the survival of the species. This notification covers activities to be conducted by the applicant over a 5-year period.

Applicant: Columbus Zoo & Aquarium, Powell, OH; PRT-56216A

The applicant requests a permit to purchase in interstate commerce one male Asian elephant (Elephas maximus) born in captivity from Riddle's Elephant and Wildlife Sanctuary, Greenbriar, AR for the purpose of enhancement of the survival of the species.

Applicant: James McNicol, Chandler, AR; PRT-66555A

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2012-6295 Filed 3-14-12; 8:45 am]

BILLING CODE 4310-55-P